DEPARTMENT OF JUSTICE

Notice of Lodging of Second Consent Decree Pursuant to Comprehensive Environmental Response, Compensation, and Liability Act

Notice is hereby given that on May 15, 2008, a proposed Second Consent Decree in United States of America and the State of New Hampshire v. City of Dover, et al., Civil Action No. 1:92-cv-406-M, was lodged with the United States District Court for the District of New Hampshire.

The proposed Second Consent Decree is between Plaintiffs the United States of America and the State of New Hampshire, and Defendants the City of Dover, BFI Waste Systems of North America, LLC, CVS Pharmacy, Inc., ElectroCraft New Hampshire, Inc., Town of Madbury, Moore Wallace North America, Inc., Leonard Rosen, Siebe Inc., Wentworth-Douglass Hospital, Bayhead Products Corporation, Cleary Cleaners, Dover Technologies International, Inc., Electric Motor Servicenter, Inc., J&E Specialty, Inc., General Electric Company, George J. Foster & Company, Inc., Northeast Container Corporation, Portland Glass, Public Service of New Hampshire, United Parcel Service, Inc., Varney's Cleaners and Laundercenter, Verizon New England, Inc., Waste Management of Maine, Inc., and Waste Management of New Hampshire, Inc. (collectively, the “Settling Defendants”). The Second Consent Decree amends an original settlement of the United States' claims against the Settling Defendants under Sections 106 and 107(a) of the Comprehensive Environmental Response, Compensation, and Liability Act, as amended (“CERCLA”), 42 U.S.C. 9606, 9607(a), and Section 7003 of the Resource Conservation and Recovery Act, as amended (“RCRA”), 42 U.S.C. 6973, and the State of New Hampshire's claims against the Settling Defendants under Section 107 of CERCLA, 42 U.S.C. 107, Section 7003 of RCRA, 42 U.S.C. 6973, New Hampshire RSA 147-B, and the New Hampshire common law of nuisance.

Pursuant to the Second Consent Decree, nine Settling Defendants, referred to in the Second Consent Decree as “Work Settling Defendants,” will finance and perform the selected source control and groundwater remedies at the Site, estimated to cost $19.4 million. In addition, the Work Settling Defendants will reimburse the United States for all past and future response costs, with the exception of the first $100,000 in future response costs incurred by the United States and the first $25,000 in future response costs incurred by the United States in connection with a contingent groundwater remedy, if this contingent remedy is performed. Further, the Work Settling Defendants will reimburse the State of New Hampshire for all future response costs. The remaining Settling Defendants, referred to as “Cash-Out Settling Defendants” made a financial contribution toward the Site cleanup pursuant to the original settlement, and are not required to make a further payment under the Second Consent Decree.

The Second Consent Decree includes a covenant not to sue by the United States under Sections 106 and 107(a) of CERCLA, 42 U.S.C. 9606, 9607(a), and Section 7003 of RCRA, 42 U.S.C. 6973, and a covenant not to sue by the State of New Hampshire under Section 107(a) of CERCLA, 42 U.S.C. 107(a), Section 7003 of RCRA, 42 U.S.C. 6973, New Hampshire RSA 147-A:9 and 147-B:10, and the New Hampshire common law of nuisance.

The Department of Justice will receive for a period of thirty (30) days from the date of this publication comments relating to the proposed Second Consent Decree. Comments should be addressed to the Assistant Attorney General, Environment and Natural Resources Division, and either e-mailed to pubcomment-ees.enrd@usdoj.gov or mailed to P.O. Box 7611, U.S. Department of Justice, Washington, DC 20044-7611, and should refer to United States of America and the State of New Hampshire v. City of Dover, et al., Civil Action No. 1:92-cv-406-M, D.J. Ref. 90-11-2-735. Commenters may request an opportunity for a public meeting in the affected area, in accordance with Section 7003(d) of RCRA, 42 U.S.C. 6973(d).

The proposed Second Consent Decree may be examined at the Office of the United States Attorney, District of New Hampshire, 53 Pleasant Street, Concord, New Hampshire 03301, and at the United States Environmental Protection Agency, Region I, 1 Congress Street, Suite 1100, Boston, Massachusetts 02114-2023. During the public comment period, the proposed Second Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy by mail from the Consent Decree Library, please enclose a check in the amount of $211.00 ($0.25 per page reproduction cost) payable to the United States Treasury or, if requesting by e-mail or fax, forward a check in that amount to the Consent Decree Library at the stated address. If requesting a copy exclusive of exhibits and the parties' signature pages, please enclose a check in the amount of $25.50 ($0.25 per page reproduction cost) payable to the United States Treasury.

Maureen M. Katz,
Environmental Enforcement Section, Environment and Natural Resources Division.

[FR Doc. E8-11584 Filed 5-22-08; 8:45 am]

BILLING CODE 4410-15-P